DEPARTMENT OF THE INTERIOR

National Park Service

[NPS-WASO-NAGPRA-NPS0036648; PPWOCRADN0-PCU00RP14.R50000]

Notice of Inventory Completion Amendment: Louisiana State University, Museum of Natural Science, Baton Rouge, LA

AGENCY: National Park Service, Interior.

ACTION: Notice; amendment.

SUMMARY: In accordance with the Native American Graves Protection and Repatriation Act (NAGPRA), Louisiana State University, Museum of Natural Science (LSUMNS) has amended a Notice of Inventory Completion published in the Federal Register on December 13, 2000. This notice amends the minimum number of individuals and the number of associated funerary objects in a collection removed from the Phillip Nicks Place site in Avoyelles Parish, LA (16AV4).

DATES: Repatriation of the human remains and associated funerary objects in this notice may occur on or after October 30, 2023.

ADDRESSES: Dr. Rebecca Saunders, Curator, LSUMNS Division of Anthropology, 119 Foster Hall, LSU, Baton Rouge, LA 70803, telephone (225) 588-0909, email rsaunde@lsu.edu.

SUPPLEMENTARY INFORMATION: This notice is published as part of the National Park Service's administrative responsibilities under NAGPRA. The determinations in this notice are the sole responsibility of LSUMNS. The National Park Service is not responsible for the determinations in this notice. Additional information on the amendments and determinations in this notice, including the results of consultation, can be found in the inventory or related records held by LSUMNS.

Amendment

This notice amends determinations concerning human remains and associated funerary objects from site 16AV4, the Phillip Nicks site, listed in a Notice of Inventory Completion that was published in the Federal Register on December 13, 2000 (65 FR 77907-77908). Repatriation of the items in the original Notice of Inventory Completion has not occurred. During a re-inventory of collections from site 16AV4, the minimum number of individuals was determined to be five, rather than six as previously reported. In addition, 64 historical objects that previously were thought to have come from the general site area were determined to come from the disturbed mound summit and, consequently, they are associated funerary objects. The 427 associated funerary objects (previously identified as 363 associated funerary objects) include bracelets, rings, glass beads, textile fragments, shell fragments, gun flints, lead shot, iron nails, and iron nail fragments.

Determinations (as Amended)

Pursuant to NAGPRA and its implementing regulations, and after consultation with the appropriate Indian Tribes and Native Hawaiian organizations, LSUMNS has determined that:

• The human remains described in this amended notice represent the physical remains of five individuals of Native American ancestry.

• The 427 objects described in this amended notice are reasonably believed to have been placed with or near individual human remains at the time of death or later as part of the death rite or ceremony.

• There is a relationship of shared group identity that can be reasonably traced between the human remains and associated funerary objects described in this notice and the Jena Band of Choctaw Indians; Mississippi Band of Choctaw Indians; and The Choctaw Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 30, 2023. If competing requests for repatriation are received, LSUMNS must determine the most appropriate requestor prior to repatriation. Requests for joint repatriation of the human remains and associated funerary objects are considered a single request and not competing requests. LSUMNS is responsible for sending a copy of this notice to the Indian Tribes identified in this notice.

Authority: Native American Graves Protection and Repatriation Act, 25 U.S.C. 3003, and the implementing regulations, 43 CFR 10.9, 10.10, 10.13, and 10.14.

Dated: September 20, 2023.
Melanie O'Brien,
Manager, National NAGPRA Program.

[FR Doc. 2023-21246 Filed 9-27-23; 8:45 am]

BILLING CODE 4312-52-P